NUCLEAR REGULATORY COMMISSION

[Docket No. 030-11241]

Notice of Environmental Assessment Related to the Issuance of a License Termination Amendment to Byproduct Material License No. 22-00027-06, for St. Mary's University of Minnesota, Winona, MN

AGENCY: Nuclear Regulatory Commission.

ACTION: Issuance of Environmental Assessment and Finding of No Significant Impact for License Amendment.

FOR FURTHER INFORMATION CONTACT: George M. McCann, Senior Health Physicist, Decommissioning Branch, Division of Nuclear Materials Safety, Region III, U.S. Nuclear Regulatory Commission, 2443 Warrenville Road, Lisle, Illinois 60532-4352; telephone: (630) 829-9856; or by email at gmm@nrc.gov.

SUPPLEMENTARY INFORMATION: The U.S. Nuclear Regulatory Commission (NRC) is considering the issuance of an amendment to NRC Materials License No. 22-00027-06, which would terminate St. Mary's University of Minnesota's NRC Byproduct Material License. The NRC has prepared an Environmental Assessment in support of this action in accordance with the requirements of 10 CFR Part 51. Based on the Environmental Assessment, the NRC has determined that a Finding of No Significant Impact is appropriate. The amendment terminating St. Mary's University of Minnesota's license will be issued following the publication of this Environmental Assessment and Finding of No Significant Impact.

I. Environmental Assessment

Identification of Proposed Action

The proposed action would approve the licensee's request to terminate its license and release the site for unrestricted use in accordance with 10 CFR Part 20, Subpart E. The proposed action is in accordance with St. Mary's University of Minnesota's request to the U.S. Nuclear Regulatory Commission (NRC) to terminate its NRC Byproduct Material License by letters dated January 10, 2005 (ADAMS Accession No. ML050140064), and July 18, 2005 (ADAMS Accession No. ML052290386). St. Mary's University of Minnesota was licensed during the late 1950s by the U.S. Atomic Energy Commission by License Numbers 22-27-03D60, 22-27-04C65, and 22-00027-05, to use byproduct materials such as phosphorus-32, carbon-14, hydrogen-3, cesium-137, strontium-90, and other similar radiological materials for university laboratory research and student classroom instruction. These licenses were subsequently terminated and superceded by NRC License No. 22-00027-06, issued to the university on May 19, 1975.

The university used the byproduct material in research laboratories, student classrooms, and radiological material preparation and storage areas located in the university's Brothers Charles and Hoffman Halls, located on its Winona Campus. The isotopes were used by authorized academic staff for research applications, and for the instruction of university students in related sciences. The radioisotopes were used and disposed in accordance with AEC/NRC regulations and license conditions. The disposal included one September 17, 1977, onsite burial of a small quantity of strontium-90 and cobalt-60, which was authorized pursuant to Title 10, Code of Federal Regulations (CFR), Part 20, Section 20.304 (rescinded in 1981).

The licensee requested that the NRC approve the termination of the university's NRC Byproduct Material License, which would authorize the unrestricted use of research laboratories, student classrooms, radioisotope storage and preparation areas, and the former burial area, all located on St. Mary's of Minnesota's, Winona, Minnesota campus. The licensee conducted surveys of the facility and provided this information to the NRC to demonstrate that the radiological conditions of the laboratories, former preparation and storage areas, and classrooms located in Brothers Charles and Hoffman Halls, and the former burial area is consistent with radiological criteria for unrestricted use in 10 CFR Part 20, Subpart E. No radiological remediation activities are required to complete the proposed action. The NRC completed a closeout inspection and survey of the licensee's facilities on August 17, 2005, NRC Inspection Report No. 030-11241/05-001(DNMS) (ADAMS Accession No. ML052340785) to conduct independent radiological surveys and to verify the licensee's survey findings.

Need for the Proposed Action

The licensee is requesting this license amendment because it no longer plans to conduct NRC-licensed activities at St. Mary's University of Minnesota. The NRC is fulfilling its responsibilities under the Atomic Energy Act to make a decision on the proposed action for decommissioning that ensures that residual radioactivity is reduced to a level that is protective of the public health and safety and the environment.

Environmental Impacts of the Proposed Action

The NRC staff reviewed the information provided and surveys performed by St. Mary's University of Minnesota to demonstrate that the release of the university's facilities located at its Winona, Minnesota campus are consistent with the radiological criteria for unrestricted use specified in 10 CFR 20.1402. The NRC performed a closeout inspection and survey to confirm the university's findings. The NRC staff also evaluated the 10 CFR 20.304 burial using the Argonne National Laboratories' dose modeling program, RESRAD Version 6, and determined that the annual dose as a result of the burial is less than 1 millirem per year (mrem/yr), which is below the limit in 10 CFR 20.1402 of 25 mrem/yr for unrestricted use.

Based on its review, the staff determined that the radiological environmental impacts from the proposed action for university buildings are bounded by the “Generic Environmental Impact Statement in Support of Rulemaking on Radiological Criteria for License Termination of NRC-Licensed Nuclear Facilities” (NUREG-1496). Additionally, no non-radiological or cumulative impacts were identified. Therefore, the NRC has determined that the proposed action will not have a significant effect on the quality of the human environment.

Alternatives to the Proposed Action

The only alternative to the proposed action of releasing the university's facilities for unrestricted use is to take no action. Under the no-action alternative, the university's facilities would remain under an NRC license and would not be released for unrestricted use. Denial of the license amendment request would result in no change to current conditions at the university. The no-action alternative is not acceptable because it is inconsistent with the NRC's Timeliness Rule, 10 CFR Part 30.36 “Expiration and Termination of Licenses and Decommissioning of Sites and Separate Buildings or Outdoor Areas,” which requires licensees who have ceased licensed activities to request termination of their radioactive material license. This alternative also would impose an unnecessary regulatory burden and limit potential benefits from future use of the university's facilities.

Conclusion

The NRC staff concluded that the proposed action is consistent with the NRC unrestricted release criteria specified in 10 CFR Part 20, Subpart E, Section 20.1402, “Radiological Criteria for Unrestricted Use.” Because the proposed action will not significantly impact the quality of the human environment, the NRC staff concludes that the proposed action is the preferred alternative.

Agencies and Persons Consulted

The NRC staff has determined that the proposed action will not affect listed species or critical habitats. Therefore, no further consultation is required under Section 7 of the Endangered Species Act. Likewise, the NRC staff has determined that the proposed action is not a type of activity that has potential to cause effect on historic properties. Therefore, consultation under Section 106 of the National Historic Preservation Act is not required.

The NRC consulted with the Minnesota Department of Health. The Minnesota Department of Health, Radiation Control Unit, was provided the draft EA for comment on August 22, 2005. The State responded to the NRC by letter dated September 7, 2005, indicating, “The Minnesota Department of Health (MDH) has reviewed the U.S. Nuclear Regulatory Commission's closeout inspection report for St. Mary's University of Minnesota. In addition, MDH has discussed the findings with NRC Region III staff. Based on a review of the closeout inspection report and our additional discussions, MDH has no comments or concerns.”

II. Finding of No Significant Impact

On the basis of the EA in support of the proposed license amendment to release the site for unrestricted use, the NRC has determined that the proposed action will not have a significant effect on the quality of the human environment. Thus, the NRC has determined not to prepare an environmental impact statement for the proposed action.

Further Information

A copy of this document will be available electronically for public inspection in the NRC Public Document Room or from the Publicly Available Records (PARS) component of the NRC's document system. From this site, you can access the NRC's Agencywide Document Access and Management System (ADAMS), which provides text and image files of NRC's public documents. The following references are available for inspection at NRC's Public Electronic Reading Room at http://www.nrc.gov/reading-rm/adams.html (the Public Electronic Reading Room).

1. Rademacher, Brother Jerome, Chairman, Department of Physics, Radiation Safety Officer, St. Mary's University of Minnesota, January 10, 2005 letter to the NRC (ML050140064).

2. Rademacher, Brother Jerome, Chairman, Department of Physics, Radiation Safety Officer, St. Mary's University of Minnesota, July 18, 2005 letter to the NRC (ML052290386).

3. U.S. Nuclear Regulatory Commission, “Environmental Review Guidance for Licensing Actions Associated with NMSS Programs,” NUREG-1748, August 2003.

4. NRC, NUREG-1757, “Consolidated NMSS Decommissioning Guidance,” Volumes 1-3, September 2003.

5. Johns, Jr., George F., Supervisor, Radiation Control Unit, Minnesota Department of Health, September 7, 2005 letter to the NRC (ML052560161).

If you do not have access to ADAMS or if there are problems in accessing the documents located in ADAMS, contact the NRC Public Document Room (PDR) reference staff at (800) 397-4209, (301) 415-4737 or by email to pdr@nrc.gov. Documents may also be viewed electronically on the public computers located at the NRC's PDR, O 1 F21, One White Flint North, 11555 Rockville Pike, Rockville, MD 20852. The PDR reproduction contractor will copy documents for a fee.

Dated at Lisle, Illinois, this 19th day of September 2005.
For the Nuclear Regulatory Commission,
Jamnes L. Cameron,
Chief, Decommissioning Branch, Division of Nuclear Materials Safety Region III.

[FR Doc. 05-19647 Filed 9-29-05; 8:45 am]

BILLING CODE 7590-01-P